DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2005, there were nine applications approved. This notice also includes information on four applications, one approved in January 2005, two approved in May 2005, and one approved in June 2005, inadvertently left off the January 2005, May 2005 and June 2005 notices, respectively. Additionally, 16 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Allegheny County Airport Authority, Pittsburgh, Pennsylvania.

Application Number: 04-04-C-00-PIT.

Application Type: Impose and use a PFC.

PFC Level: $4.50.

Total PFC Revenue Approved in This Decision: $250,136,744.

Earliest Charge Effective Date: October 1, 2006.

Estimated Charge Expiration Date: October 1, 2017.

Class of Air Carriers Not Required To Collect PFC's: Non-scheduled, on-demand air carriers filing FAA Form 1800-31.

Determination: Approved. Based on information contained in the public agency's application, the FAA has determined that the approved class accounts for less than 1 percent of the total annual enplanements at Pittsburgh International Airport.

Brief Description of Projects Approved for Collection and Use at a $4.50 PFC Level:

Airfield signage.

Airfield pavement rehabilitation/extension/relocation.

Deicing sub-projects.

New aircraft rescue and firefighting facilities.

Residential sound insulation program (phases III and IV).

Upgrade runway 10R to category III and in-pavement lighting.

Midfield terminal upgrades.

Aircraft rescue and firefighting equipment.

Wastewater/contaminated storm water treatment facility environmental mitigation, phase 1 environmental/design.

Taxiways B2, C, N, and R pavement rehabilitation.

Airfield/terminal security upgrades.

Improve runways 32 and 29R runway safety areas; and improve runway 14 runway safety area—environmental/design.

Brief Description of Projects Approved for Collection and Use at a $3.00 PFC Level:

Snow removal equipment storage building, phase 1 environmental/design.

Regional fire training facility.

Cargo/hangar/tower service area road and access.

Wetland mitigation.

Roadway signage.

Continuous master planning/Part 150 study (1997-1999).

Snow removal equipment maintenance complex, phase 1.

Snow removal equipment.

Decision Date: January 7, 2005.

FOR FURTHER INFORMATION CONTACT: Lori Ledebohm, Harrisburg Airports District Office, (717) 730-2835.

Public Agency: Lexington-Fayette Urban County Airport Board, Lexington, Kentucky.

Application Agency: Lexington-Fayette Urban County Airport Board, Lexington, Kentucky.

Application Number: 05-06-U-00-LEX.

Application Type: Use PFC revenue.

PFC Level: $4.50.

Total PFC Revenue To Be Used in This Decision: $45,695,766.

Charge Effective Date: December 1, 2003.

Estimated Charge Expiration Date: August 1, 2022.

Class of Air Carriers Not Required To Collect PFC's: No change from previous decision.

Brief Description of Projects Approved for Use:

Runway safety area improvements.

Terminal interior modifications.

Concourse gate addition.

Decision Date: May 2, 2005.

FOR FURTHER INFORMATION CONTACT: Tommy L. Dupree, Memphis Airports District Office, (901) 322-8185.

Public Agency: Metropolitan Airports Commission, Minneapolis, Minnesota.

Application Number: 05-08-C-00-MSP.

Application Type: Impose and use a PFC.

PFC Level: $4.50.

Total PFC Revenue Approved in This Decision: $191,380,173.

Earliest Charge Effective Date: January 1, 2017.

Estimated Charge Expiration Date: December 1, 2018.

Class of Air Carriers Not Required To Collect PFC's: Air taxi/commercial operators filing FA Form 1800-31.

Determination: Approved. Based on information contained in the public agency's application, the FAA has determined that the approved class accounts for less than 1 percent of the total annual enplanements at Minneapolis-St. Paul International Airport.

Brief Description of Projects Approved for Collection and Use at a $3.00 PFC level:

Pavement rehabilitation—aprons.

Runway 7/35 runway protection zones restoration.

Brief Description of Project Partially Approved for Collection and Use at a $3.00 PFC Level: Glycol management facility.

Determination: The office, conference room, and drivers' room in the glycol management facility, the storage building for vacuum trucks, and storage tanks for the processed glycol are not PFC eligible. Site preparation, paved roadways, and vehicle parking associated with the above items is also not PFC eligible.

Brief Description of Projects Approved for Collection and Use at a $4.50 PFC Level:

Runway 17/35 south and construction.

Runway 17/35 land acquisition.

Taxiway M construction.

Environmental mitigation.

School sound insulation.

Pavement rehabilitation—runway 12R/30L, segment 2.

Miscellaneous construction.

Navy building relocation.

Category II system installation—airport lighting electrical center modifications.

Fire truck.

Brief Description of Withdrawn Projects:

Runway 17/35 communications.

Taxiway C/D complex.

Runway 30R safety area improvements.

Maintenance building addition.

Relocate air traffic control tower.

Determination: These projects were withdrawn by the public agency by letter dated March 15, 2005.

Decision Date: May 5, 2005.

FOR FURTHER INFORMATION CONTACT: Gordon Nelson, Minneapolis Airports District Office, (612) 713-4358.

Public Agency: City of Springfield, Missouri.

Application Number: 05-05-C-00-SGF.

Application Type: Impose and use a PFC.

PFC Level: $4.50.

Total PFC Revenue Approved in This Decision: $900.00.

Earliest Charge Effective Date: September 1, 2005.

Estimated Charge Expiration Date: March 1, 2006.

Class of Air Carriers Not Required To Collect PFC's: Non-scheduled Part 135 and air taxi operators.

Determination: Approved. Based on information contained in the public agency's application, the FAA has determined that the approved class accounts for less than 1 percent of the total annual enplanements at Springfield-Branson Regional Airport.

Brief Description of Project Approved for Collection and Use: Acquire land for midfield terminal.

Decision Date: June 29, 2005.

FOR FURTHER INFORMATION CONTACT: Lorna Sandridge, Central Region Airports Division, (816) 329-2641.

Public Agency: Broward County Aviation Department, Fort Lauderdale, Florida.

Application Number: 05-07-C-00-FLL.

Application Type: Impose and use a PFC.

PFC Level: $4.50.

Total PFC Revenue Approved in This Decision: $270,817,368.

Earliest Charge Effective Date: October 1, 2005.

Estimated Charge Expiration Date: September 1, 2013.

Class of Air Carriers Not Required To Collect PFC's: Air taxi/commercial operators.

Determination: Approved. Based on information contained in the public agency's application, the FAA has determined that the approved class accounts for less than 1 percent of the total annual enplanements at Fort Lauderdale—Hollywood International Airport.

Brief Description of Project Partially Approved for Collection and Use at a $4.50 PFC level: Noise mitigation bank.

Determination: Any costs associated with compensation for lost property value attributable to airport noise is not eligible.

Brief Description of Projects Approved for Collection at a $4.50 PFC Level:

Taxiway C improvements west of runway 13/31.

Taxiway C phase II—design.

Brief Description of Projects Approved for Collection at a $4.50 PFC Level:

Concourse B terminal.

Concourse B—apron.

Inner terminal taxilanes—design.

Inner terminal taxilanes—construction.

Taxiway B extension.

International terminal—federal inspection station—(terminal 4) design.

Master plan update (runway implementation plan initiative).

Terminal 4.

Brief Description of Projects Approved for Collection at a $3.00 PFC Level:

Pedestrian walkways.

Exit roadways—pre-design.

Exit roadways—final design/construction.

Fiber optic backbone.

Concourse E, F, and H restrooms.

Pedestrian canopies.

Curbside queuing lanes.

Westside road relocation.

Passenger loading bridge utilities infrastructure.

Communications center equipment.

Concourse A pre-design.

Concourse A apron pre-design.

Automated people mover pre-design planning and programming.

Decision Date: July 5, 2005.

FOR FURTHER INFORMATION CONTACT: Miguel Martinez, Orlando Airports District Office, (407) 812-6331, extension 123.

Public Agency: Meridian Airport Authority, Meridian, Mississippi.

Application Number: 05-07-C-00-MEI.

Application Type: Impose and use a PFC.

PFC Level: $4.50.

Total PFC Revenue Approved in this Decision: $489,473.

Earliest Charge Effective Date: October 1, 2005.

Estimated Charge Expiration Date: April 1, 2008.

Class of Air Carriers Not Required to Collect PFC's: None.

Brief Description of Projects Approved for Collection and Use:

Build terminal building.

Survey and clear runway approaches.

Rehabilitate and improve drainage.

Decision Date: July 11, 2005.

FOR FURTHER INFORMATION CONTACT: David Shumate, Jackson Airports District Office, (601) 664-9882.

Public Agency: Grater Orlando Aviation Authority, Orlando, Florida.

Application Number: 05-10-C-00-MCO.

Application Type: Impose and use a PFC.

PFC Level: $3.00.

Total PFC Revenue Approved in This Decision: $232,818,000.

Earliest Charge Effective Date: July 1, 2014.

Estimated Charge Expiration Date: November 1, 2020.

Class of Air Carriers Not Required To Collect PFC's: None.

Brief Description of Projects Approved for Collection at Orlando International Airport (MCO) and Use at MCO:

Runway 18L/18R runway safety area improvements.

East airfield nominations.

West airfield taxiway improvements.

Airfield pavement rehabilitation.

Implement sound insulation and property acquisition program.

High mast lighting rehabilitation.

Taxiways E and F rehabilitation.

Airsides 1 and 3 rehabilitation.

Airside terminal 2 expansion.

Extension of taxiways G1 and H2.

Airsides 2 and ramp rehabilitation.

New large aircraft modifications at west airfield.

Mitigation management/environmental costs.

Reimbursement of mitigation management/environmental costs.

Airport exit road improvements.

Roadway rehabilitation.

Cargo road extension.

Widening of south access road.

Enplane/deplane drive expansion joints and lighting rehabilitation.

Landside terminal emergency electrical system improvements.

Security improvements.

Explosion detection system.

Terminal improvement program.

Brief Description of Projects Approved for Collection at MCO and Use at Orlando Executive Airport:

Runways 25 and 31 holding bays.

Runways 7/25 rehabilitation.

Runway 7, runway protection zone land acquisition.

West ramp rehabilitation.

Drainage improvements—design and construction.

Airfield lighting—design and construction.

Navigational aid improvements.

East and west quadrant ramp improvements.

Decision Date: July 12, 2005.

FOR FURTHER INFORMATION CONTACT: Vernon P., Rupinta, Orlando Airports District Office, (407) 812-6331, extension 124.

Public Agency: City of Cleveland, Ohio.

Application Number: 05-10-C-00-CLE.

Application Type: Impose and use a PFC.

PFC Level: $4.50.

Total PFC Revenue Approved in This Decision: $53,448,000.

Earliest Charge Effective Date: November 1, 2007.

Estimated Charge Expiration Date: October 1, 2010.

Class of Air Carriers Not Required To Collect PFC's: Air taxi.

Determination: Approved. Based on information contained in the public agency's application, the FAA has determined that the approved class accounts for less than 1 percent of the total annual enplanements at Cleveland Hopkins International Airport.

Brief Description of Projects Approved for Collection and Use:

Runway 6R/24L uncoupling.

Runway 28 safety improvements.

Midfield deicing pad.

Taxiway M improvements.

Decision Date: July 14, 2005.

FOR FURTHER INFORMATION CONTACT: Jason K. Watt, Detroit Airports District Office, (734) 229-2906.

Public Agency: Flathead Municipal Airport Authority, Kalispell, Montana.

Application Number: 05-03-C-00-FCA.

Application Type: Impose and use a PFC.

PFC Level: $4.50.

Total PFC Revenue Approved in This Decision: $833,138.

Earliest Charge Effective Date: July 1, 2016.

Estimated Charge Expiration Date: November 1, 2017.

Class of Air Carriers Not Required To Collect PFC's: Nonscheduled/on demand air carriers filing FAA Form 1800-31.

Determination: Approved. Based on information contained in the public agency's application, the FAA has determined that the approved class accounts for less than 1 percent of the total annual enplanements at Glacier Park International Airport.

Brief Description of Projects Approved for Collection and Use:

Master plan update.

Runway 02 extension.

Snow removal equipment.

Decision Date: July 15, 2005.

FOR FURTHER INFORMATION CONTACT: David Stelling, Helena Airports District Office, (406) 449-5271.

Public Agency: City of Des Moines, Iowa.

Application Number: 05-08-C-00-DSM.

Application Type: Impose and use a PFC.

PFC Level: $4.50.

Total PFC Revenue Approved in This Decision: $2,750,000.

Earliest Charge Effective Date: April 1, 2009.

Estimated Charge Expiration Date: January 1, 2012.

Class of Air Carriers Not Required To Collect PFC's: Part 135 air taxi/commercial operators.

Determination: Approved. Based on information contained in the public agency's application, the FAA has determined that the approved class accounts for less than 1 percent of the total annual enplanements at Des Moines International Airport.

Brief Description of Projects Approved for Collection and Use:

Outbound baggage make-up belts.

Full depth replacement of signature front aprons.

Americans with Disabilities Act transition project.

Automated access control system field equipment upgrade.

Brief Description of Withdrawn Project: Terminal area security improvements.

Determination: This project was withdrawn by the public agency by letter dated April 13, 2005.

Decision Date: July 19, 2005.

FOR FURTHER INFORMATION CONTACT: Lorna K. Sanridge, Central Region Airports Division, (816) 329-2641.

Public Agency: City of Billings Aviation and Transit Department, Billings, Montana.

Application Number: 05-04-C-00-BIL.

Application Type: Impose and use a PFC.

PFC Level: $3.00.

Total PFC Revenue Approved in This Decision: $3,300,000.

Earliest Charge Effective Date: May 1, 2006.

Estimated Charge Expiration Date: September 1, 2009.

Class of Air Carriers Not Required To Collect PFC's: None.

Brief Description of Project Approved for Collection and Use: Acquisition of terminal building passenger loading bridges.

Decision Date: July 19, 2005.

FOR FURTHER INFORMATION CONTACT: David S. Stelling, Helena Airports District Office, (406) 449-5271.

Public Agency: Williamson County Airport Authority, Marion, Illinois.

Application Number: 05-01-C-00-MWA.

Application Type: Impose and use a PFC.

PFC Level: $4.50.

Total PFC Revenue Approved in This Decision: $509,499.

Earliest Charge Effective Date: September 1, 2005.

Estimated Charge Expiration Date: March 1, 2016.

Class of Air Carriers Not Required To Collect PFC's: Non-scheduled, on-demand air carriers filing FAA Form 1800-31.

Determination: Approved. Based on information contained in the public agency's application, the FAA has determined that the approved class accounts for less than 1 percent of the total annual enplanements at Williamson County Regional Airport.

Brief Description of Projects Approved for Collection and Use:

Master plan update.

Construct aircraft rescue and firefighting station.

Install airfield signage, electrical vault, terminal apron.

Land acquisition, parcel 34A.

Porous friction course for runway 2/20.

Land acquisition, parcel 34B.

Construct snow removal equipment building.

Land acquisition, parcel 34C.

Install perimeter fence and replace drainage pipe.

Update Exhibit A property line map.

Land acquisition, parcel 34D.

Expand terminal apron, overlay general aviation apron.

Land Acquisition, parcel 28A.

Widen terminal apron/porous friction course.

Land acquisition.

Install automated weather observation system.

Porous friction course runway 11/29, taxiway B.

Airport layout plan update (phase 1).

Land acquisition.

Construct maintenance building.

Land acquisition, parcel 29.

Airport layout plan update (phase 2).

Snow removal equipment building modification.

Runway 2/20 obstruction removal.

Update environmental assessment for runway 2/20.

Rehabilitate high intensity runway lighting—runway 2/20.

Runway 2/20 extension, grading and drainage (phase 1).

Runway 2/20 extension, relocate automate weather observation system.

Security enhancements.

Land acquisition, parcel 34E.

Decision Date: July 25, 2005.

FOR FURTHER INFORMATION CONTACT: Gary Wilson, Chicago Airports District Office, (847) 294-7631.

Public Agency: Yakima Air Terminal Board, Yakima, Washington.

Application Number: 05-10-C-00-YKM.

Application Type: Impose and use a PFC.

PFC Level: $3.00.

Total PFC Revenue Approved In This Decision: $701,494.

Earliest Charge Effective Date: August 1, 2006.

Estimated Charge Expiration Date: January 1, 2010.

Class of Air Carriers Not Required To Collect PFC's: Air taxi/commercial operator.

Determination: Approved. Based on information contained in the public agency's application, the FAA has determined that the approved class accounts for less than 1 percent of the total annual enplanements at Yakima Air Terminal—McAllister Field.

Brief Description of Project Approved for Collection and Use: Reconstruct taxiway C including new stub taxiway and ramp.

Decision Date: January 7, 2005.

FOR FURTHER INFORMATION CONTACT: Suzanne Lee-Pang, Seattle Airports District Office, (425) 227-2654.

Public Agency: City of San Angelo, Texas.

Application Number: 05-06-C-00-SJT.

Application Type: Impose and use a PFC.

PFC Level: $4.50.

Total PFC Revenue Approved in This Decision: $200,000.

Earliest Charge Effective Date: January 1, 2006.

Estimated Charge Expiration Date: November 1, 2006.

Class of Air Carriers Not Required To Collect PFC's: Non-scheduled, on-demand air carriers.

Determination: Approved. Based on information contained in the public agency's application, the FAA has determined that the approved class accounts for less than 1 percent of the total annual enplanements at San Angelo Regional Airport/Mathis Field.

Brief Description of Project Approved for Collection and Use: Terminal concourse addition.

Decision Date: July 28, 2005.

FOR FURTHER INFORMATION CONTACT: Mike Nicely, Southwest Region Airports Division, (817) 222-5650.

Amendments to PFC Approvals
Amendment No. city, state | Amendment approved date | Original approved net PFC revenue | Amended approved net PFC revenue | Original estimated charge exp. date | Amended estimated charge exp. date
98-05-C-02-COS, Colorado Springs, CO | 12/07/04 | $10,353,578 | $8,106,238 | 01/01/01 | 01/01/01
01-02-C-02-HRL, Harlingen, TX | 04/29/05 | 6,025,961 | 5,456,858 | 06/01/07 | 12/01/07
01-02-C-01-HVN, New Haven, CT | 06/21/05 | 1,963,265 | 226,181 | 11/01/07 | 07/01/05
02-05-C-05-BGM, Binghamton, NY | 06/27/05 | 4,635,407 | 4,646,145 | 07/01/05 | 07/01/05
03-06-C-02-BGM, Binghamton, NY | 06/27/05 | 7,996 | 7,996 | 08/01/05 | 08/01/05
94-01-C-03-BUR, Burbank, CA | 07/01/05 | 33,330,107 | 33,330,107 | 10/01/01 | 10/01/01
96-02-U-02-BUR, Burbank, CA | 07/01/05 | (¹) | (¹) | 10/01/01 | 10/01/01
97-02-C-02-FCA, Kalispell, MT | 07/08/05 | 8,217,803 | 9,970,526 | 06/01/20 | 07/01/16
99-03-C-02-CLL, College Station, TX | 07/11/05 | 951,400 | 1,274,069 | 09/01/02 | 01/01/07
98-02-C-01-ASE, Aspen, CO | 07/12/05 | 1,020,000 | 874,117 | 10/01/00 | 02/01/00
99-03-C-01-ASE, Aspen, CO | 07/12/05 | 1,354,000 | 1,380,097 | 05/01/03 | 05/01/03
04-07-C-01-BGM, Binghamton, NY | 07/12/05 | 237,624 | 337,624 | 10/01/05 | 12/01/05
93-01-C-03-MFR, Medford, OR | 07/12/05 | 847,592 | 397,015 | 11/01/95 | 01/01/95
98-03-C-02-HDN, Hayden, CO | 07/14/05 | 1,130,176 | 1,039,754 | 06/01/02 | 06/01/02
01-04-C-02-HDN, Hayden, CO | 07/18/05 | 150,833 | 163,604 | 11/01/02 | 11/01/02
96-03-C-02-CLM, Port Angeles, WA | 07/19/05 | 104,798 | 77,984 | 08/01/98 | 01/01/98
¹ Not applicable.

Issued in Washington, DC on December 19, 2005.
Joe Hebert,
Manager, Financial Analysis and Passenger Facility Charge Branch.

[FR Doc. 05-24438 Filed 12-22-05; 8:45 am]

BILLING CODE 4910-13-M